DEPARTMENT OF AGRICULTURE

Submission for OMB Review; Comment Request

September 27, 2005.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: FNS Computer System Access Request.

OMB Control Number: 0584-NEW.

Summary of Collection: The Office of Management and Budget Circular No. A-130, Appendix III, Security of Federal Automated Information Resources, dated February 8, 1996, established a minimum set of controls to be included in Federal automated information security programs. Establishing personal controls to screen users to allow access to authorized system is directed in this appendix. The Food and Nutrition Service (FNS) Computer System Access Request Form, FNS-674, is designed for this purpose and will be used in all situations where access to an FNS computer system is required, where current access is required to be modified, or where access is no longer required and must be deleted. Users who access FNS systems are: State agencies, other Federal agencies, FNS Regional offices, FNS Field offices, FNS Compliance Offices, staff contractors, and FNS headquarters staff.

Need and Use of the Information: The State Coordinator is responsible for ensuring that State users and entities comply with the FNS Information Systems Security Policy Handbook 701 and the FNS Information Systems Standards and Procedures Handbook 702 developed for State systems for their use in maintaining proper controls over FNS security features used by State clients. The Regional Deputy Information System Security Officers act on behalf of the Headquarters Information Systems Security Office to ensure that Regional, Field Office, and the Compliance Office users comply with the FNS handbook security policies developed for the regional environment. FNS employs a staff of contractors who develop, monitor, and maintain the numerous FNS systems and also a small group who perform various administrative functions. If access were not granted, users would be denied access to systems needed to deliver FNS programs.

Description of Respondents: State, Local, or Tribal Government; Federal Government.

Number of Respondents: 2,700.

Frequency of Responses: Reporting: On occasion.

Total Burden Hours: 2,700.

Ruth Brown,
Departmental Information Collection Clearance Officer.

[FR Doc. 05-19672 Filed 9-30-05; 8:45 am]

BILLING CODE 3410-30-P